DEPARTMENT OF ENERGY

Federal Energy Regulatory Commission

[Project No. 7189-014]

Green Lake Water Power Company; Notice of Cancellation of Dispute Resolution Panel Meeting and Technical Conference

The technical conference scheduled to occur via teleconference on Monday, March 30, 2020, regarding the dispute resolution panel for the Green Lake Hydroelectric Project (project) is cancelled. On March 26, 2020, the National Marine Fisheries Service filed a letter withdrawing its study dispute that was filed on February 25, 2020. The technical conference is therefore being cancelled due to the withdrawal of the study dispute. The three-person dispute resolution panel formed pursuant to 18 CFR 5.14(d) on March 9, 2020, by Commission staff, in response to the filing of a notice of study dispute is hereby disbanded.

Dated: March 26, 2020.
Nathaniel J. Davis, Sr.,
Deputy Secretary.

[FR Doc. 2020-06764 Filed 3-31-20; 8:45 am]

BILLING CODE 6717-01-P